INTERNATIONAL TRADE COMMISSION

[Investigation No. 337-TA-487]

Certain Agricultural Vehicles and Components Thereof; Notice of a Commission Determination Not To Review an Initial Determination Granting Complainant's Motion to Amend the Complaint and Notice of Investigation Relating to the Leaping Deer Trademark Registration

AGENCY: U.S. International Trade Commission.

ACTION: Notice.

SUMMARY: Notice is hereby given that the U.S. International Trade Commission has determined not to review the initial determination (“ID”) of the presiding administrative law judge (“ALJ”) granting the motion of complainant Deere & Company (“Deere”) to amend the complaint and notice of investigation by identifying the registration number of its “leaping deer” trademark.

FOR FURTHER INFORMATION CONTACT: Michael Diehl, Esq, Office of the General Counsel, U.S. International Trade Commission, telephone (202) 205-3095. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: On February 13, 2003, the Commission instituted this investigation based on a complaint filed by Deere, alleging a violation of section 337 of the Tariff Act of 1930 in the importation into the United States, the sale for importation, and sale within the United States after importation of certain agricultural vehicles and components thereof by reason of infringement and dilution of U.S. registered Trademark Nos. 1,254,339, 1,502,103, 1,503,576, and 91,860. The complaint further alleged that an industry in the United States exists as required by subsections (a)(1)(A) and (a)(2) of section 337.

In the complaint, Deere stated that it owned an unregistered “leaping deer” mark, in addition to its registered trademarks. It stated also that it had applied for federal registration of the mark, and that it “intend[ed] to amend this Complaint to include the leaping deer registration as soon as the registration is issued.” (Complaint at ¶¶ 46-47). In the motion, Deere represented that its application for registration of the mark was granted on June 24, 2003, and it attached certified copies of the registration (U.S. Trademark Registration No. 2,729,766).

By Commission rule 210.14(b), the complaint and notice of investigation may be amended after the institution of the investigation “only * * * for good cause shown and upon such conditions as are necessary to avoid prejudicing the public interest and the rights of the parties to the investigation.” The ALJ found good cause for the amendment because the trademark registration in question did not issue until June 24, 2003. The ALJ also found that the amendment would not result in any prejudice to any of the parties in the investigation. The ALJ noted that Deere disclosed in the original complaint that it intended to assert infringement of the “leaping deer” mark when the registration issued. The ALJ found that the proposed amendments will not change the scope of the investigation in terms of either the products or issues involved. Finally, he noted that “Deere has not asserted infringement of the ‘leaping deer’ mark by any products other than the agricultural vehicles already at issue.”

No party petitioned for review of the ID.

This action is taken under the authority of section 337 of the Tariff Act of 1930, as amended, 19 U.S.C. 1337, and Commission rule 210.42, 19 CFR 210.42.

By order of the Commission.
Issued: August 27, 2003.
Marilyn R. Abbott,
Secretary to the Commission.

[FR Doc. 03-22400 Filed 9-2-03; 8:45 am]

BILLING CODE 7020-02-P